DEPARTMENT OF THE TREASURY

Office of Foreign Assets Control

31 CFR Part 588

Publication of Western Balkans Stabilization Regulations Web General License 5A

AGENCY: Office of Foreign Assets Control, Treasury.

ACTION: Publication of a web general license.

SUMMARY: The Department of the Treasury's Office of Foreign Assets Control (OFAC) is publishing a general license issued pursuant to the Western Balkans Stabilization Regulations: GL 5A, which was previously made available on OFAC's website.

DATES: GL 5A was issued on November 6, 2024. See SUPPLEMENTARY INFORMATION for additional relevant dates.

FOR FURTHER INFORMATION CONTACT: OFAC: Assistant Director for Licensing, 202-622-2480; Assistant Director for Regulatory Affairs, 202-622-4855; or Assistant Director for Compliance, 202-622-2490 or https://ofac.treasury.gov/contact-ofac.

SUPPLEMENTARY INFORMATION:

Electronic Availability

This document and additional information concerning OFAC are available on OFAC's website: https://ofac.treasury.gov.

Background

On November 6, 2024, OFAC issued GL 5A to authorize certain transactions otherwise prohibited by the Western Balkans Stabilization Regulations, 31 CFR part 588. GL 5A superseded GL 5. GL 5A was made available on OFAC's website (https://ofac.treasury.gov) when it was issued. The text of this GL is provided below.

OFFICE OF FOREIGN ASSETS CONTROL

Western Balkans Stabilization Regulations

31 CFR Part 588

GENERAL LICENSE NO. 5A

Authorizing Certain Transactions Involving Pumps Manufactured or Distributed by Kaldera Company EL PGP d.o.o. or Elpring d.o.o. Laktasi for the Treatment or Distribution of Drinking Water

(a) Except as provided in paragraph (b) of this general license, all transactions prohibited by the Western Balkans Stabilization Regulations, 31 CFR part 588 (WBSR), that are ordinarily incident and necessary to the manufacture, distribution, operation, installation, or maintenance and repair of pumps manufactured or distributed by Kaldera Company EL PGP d.o.o. (Kaldera), Elpring d.o.o. Laktasi (Elpring), or any entity in which Kaldera or Elpring owns, directly or indirectly, individually or in the aggregate, a 50 percent or greater interest, that are currently or are intended solely for use in the treatment or distribution of drinking water, are authorized.

(b) This general license does not authorize any transactions otherwise prohibited by the WBSR, including transactions involving any person blocked pursuant to the WBSR other than the blocked persons described in paragraph (a) of this general license, unless separately authorized.

(c) Effective November 6, 2024, General License No. 5, dated June 18, 2024, is replaced and superseded in its entirety by this General License No. 5A.

Lisa M. Palluconi,

Acting Director, Office of Foreign Assets Control.

Dated: November 6, 2024

Lisa M. Palluconi,
Acting Director, Office of Foreign Assets Control.

[FR Doc. 2024-28470 Filed 12-5-24; 8:45 am]

BILLING CODE 4810-AL-P